DEPARTMENT OF THE INTERIOR

Fish and Wildlife Service

Notice of Availability of the Draft Comprehensive Conservation Plan and Environmental Assessment for Sand Lake National Wildlife Refuge, Columbia, SD

AGENCY: Fish and Wildlife Service, Interior.

ACTION: Notice of Availability.

SUMMARY: The U.S. Fish and Wildlife Service (Service) announces that the Draft Comprehensive Conservation Plan and Environmental Assessment (CCP/EA) for the Sand Lake National Wildlife Refuge (Refuge) is available for public review and comment. This Draft CCP/EA was prepared pursuant to the National Wildlife Refuge System Administration Act, as amended, and the National Environmental Policy Act (NEPA). The Draft CCP/EA describes the Service's proposal for management of the Refuge for 15 years.

DATES: Written comments must be received at the postal or electronic addresses listed below by July 20, 2005. Comments may also be submitted VIA electronic mail to: kathleen_linder@fws.gov.

ADDRESSES: To provide written comments or to obtain a copy of the Draft CCP/EA, please write to Linda Kelly, Planning Team Leader, U.S. Fish and Wildlife Service, P.O. Box 25486, Denver Federal Center, Denver, CO 80225-0486; (303) 236-8132; fax (303)236-4792, or Gene Williams, Refuge Manager, Sand Lake National Wildlife Refuge, 39650 Sand Lake Drive, Columbia, South Dakota 57433; (605) 885-6320; fax (605) 885-6401. The Draft CCP/EA will also be available for viewing and downloading online at http://mountain-prairie.fws.gov/planning.

FOR FURTHER INFORMATION CONTACT: Linda Kelly, Planning Team Leader at the above address or at (303) 236-8132.

SUPPLEMENTARY INFORMATION: The National Wildlife System Administration Act of 1966, as amended by the National Wildlife Refuge Improvement Act of 1997 (16 U.S.C. 668dd-668ee et seq), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies.

In addition to outlining broad management direction on conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Refuge System Improvement Act of 1997, and the National Environmental Policy Act of 1969 (42 U.S.C. 4321-4370d).

Background

Sand Lake NWR was established by Executive Order 6724, dated May 28, 1934, and Executive Order 7169, dated September 4, 1935, as a Refuge and breeding ground for migratory birds and other wildlife. Sand Lake National Wildlife Refuge was established for * * * “use by migratory birds, with emphasis on waterfowl and other water birds” and “the conservation of fish and wildlife resources.”

Significant issues addressed in the Draft CCP/EA include: Wildlife and habitat management, water management, public use, and invasive plants. The Service developed three alternatives for management of the Refuge: Alternative 1—No Action; Alternative—Maximize biological potential for grassland-nesting birds; Alternative 3—Integrated management. All three alternatives outline specific management objectives and strategies related to wildlife and habitat management, water management, public use, and invasive plant control.

Alternative 1—No Action (Current Management) would continue and would not involve extensive restoration of cropland, grassland, and wetland habitat, or improvements to roads and administrative facilities. Grasslands would be managed to provide habitat for upland nesting waterfowl. Shelterbelt woodlands would deteriorate and die out, benefiting grassland-nesting birds. Species of migratory birds that use fringes would decrease.

Cropland would be maintained to control invasive plants and to provide food for resident wildlife. Deer and pheasant populations would be sustained, along with hunting and viewing opportunities for these species.

In addition to herbicides, management tools such as grazing, burning, mowing, and farming would be used to maintain the quality of upland habitat.

Invasive-plant infestations may increase or decrease, depending on environmental conditions. Using herbicides to control invasive plants would reduce the diversity and quality of grasslands, and may spread toxic and persistent chemicals into the environment.

Sedimentation rates near the Mud Lake dike are expected to remain elevated near current levels, thereby continuing to degrade the wetland functions of Mud Lake.

The ability to cycle vegetation and create an interspersion of cover and water to meet objectives in Mud Lake through current water-level manipulations would be hindered. Reduced invertebrate production may impact nutrient cycling and overall wetland productivity, as well as limit a major food source for waterfowl and other wildlife.

All hunting and fishing seasons would continue as presently managed. No new parking areas would be developed.

Alternative 2—Maximize biological potential for grassland-nesting birds would involve intense management of upland habitat to maximize numbers of migratory birds, because of their importance as Federal Trust Species.

The amount of grassland habitat would be maximized by the elimination of croplands, decreased wetland acreage with the removal or breaching of dikes, and the elimination of shelterbelts. The number of acres of invasive plants might increase due to lower water levels.

Grassland-dependent birds would benefit from larger blocks of nesting habitat and the elimination of travel corridors and den sites for predators. The number and diversity of tree-nesting species and edge species would be reduced.

The diversity of wetland-dependent species would decline due to the decreased wetland acreage and lack of water control. The number of waterfowl would probably decline. Use of the refuge by overwater-nesting colonial birds would decline.

White-tailed deer use of the refuge would likely be sustained. With the elimination of all cropland, depredation on neighboring crops may increase.

Sedimentation rates in wetlands would decline with the removal or breaching of the dikes, resulting in long-term benefits to water quality.

An education and visitor center would be built to allow visitors to learn about wildlife and experience the refuge without disturbing wildlife.

Conflicts between humans and nesting, brooding, and foraging birds would be avoided through restriction or elimination of nearly all spring and summer recreational use and some fall recreational use of the James River within the refuge.

Deer and upland-game hunting would continue. Accessibility of deer and upland-game to hunters would likely decrease. Migrating waterfowl may pass through the refuge more quickly during the fall. Overall hunter satisfaction may decrease as the quality of hunting and harvest opportunities decreases.

Fall and winter fishing would be allowed at five designated areas. Spring and summer fishing opportunities would be eliminated to avoid direct conflicts with nesting and brooding migratory birds.

Alternative 3—Integrated Management, the Service's Proposed Action, takes an integrated approach that maximizes the biological potential for migratory birds, and finds a balance with reducing cropland, while ensuring depredation is minimized.

Cropland acreage would be reduced. Upland habitat management would be geared toward providing tall and dense nesting cover on a high percentage of the uplands for nesting birds, especially waterfowl.

The vegetative diversity of grasslands would be greatly enhanced by re-seeding all habitat blocks to native plants or rejuvenated dense nesting cover.

The die-off of some shelterbelts and removal of isolated trees would increase the size of grassland blocks for nesting migratory birds.

Although more grassland-dependent birds may be able to use the refuge, nesting success is not expected to increase. Remaining shelterbelts would provide travel corridors and den sites that help support a robust population of predators.

The five sub-impoundments would be managed as shallow-water wetlands for waterfowl breeding pairs and broods, nesting black terns and pied-billed grebes, and foraging water birds and shorebirds.

Deer and pheasant populations would be sustained, along with hunting and viewing opportunities for these species. Depredation issues would be a function of the location and size of the total farmed acreage.

The size and location of remaining cropland would be based on the need to control invasive plants, especially Canada thistle. Grasslands infested with Canada thistle would be tilled and planted with native vegetation or dense nesting cover after the area is considered clear of viable Canada thistle seed. Canada thistle should be much more contained than it is currently, reducing the potential for a thistle seed source to invade adjacent or downstream private lands.

Watershed-level conservation efforts through partnerships may result in a long-term reduction of sediment entering the James River and refuge.

Sedimentation rates near the Mud Lake dike are expected to remain elevated near current levels in the short term, thereby continuing to degrade the wetland functions of Mud Lake.

The ability to cycle vegetation and create an interspersion of cover and water to meet objectives in Mud Lake through current water-level manipulations would be hindered. Reduced invertebrate production may impact nutrient cycling and overall wetland productivity, as well as limit a major food source for waterfowl and other wildlife.

Wildlife-dependent recreational and educational activities would be expanded and improved on- and off-refuge. The building of an education and visitor center would allow visitors a quality experience and provide a focus point for public use on the refuge.

All hunting and fishing seasons would continue as presently managed. Support facilities, including parking, for hunting and fishing opportunities would be improved.

The review and comment period is 30 calendar days commencing with publication of this Notice of Availability in the Federal Register. After the review and comment period for this Draft CCP/EA, all comments will be analyzed and considered by the Service. All comments received from individuals on the Environmental Assessment become part of the official public record. Requests for such comments will be handled in accordance with the Freedom of Information Act, the Council on Environmental Quality's NEPA regulations (40 CFR 1506.6(f)) and other Service and Departmental policies and procedures.

Dated: May 26, 2005.
Ron Shupe,
Regional Director, Region 6, Denver, CO.

[FR Doc. 05-12061 Filed 6-17-05; 8:45 am]

BILLING CODE 4310-55-P